OFFICE OF MANAGEMENT AND BUDGET

Privacy Act of 1974; Revisions to the Existing System of Records

AGENCY: Office of Management and Budget, Executive Office of the President.

ACTION: Proposed revisions to an existing system of records.

SUMMARY: The Office of Management and Budget (OMB) is deleting from its inventory eleven systems of records because the information is no longer maintained by OMB due to organizational changes. An additional three systems of records will be updated to more accurately reflect position titles, addresses, and descriptions of the systems.

DATES: This proposed action will be effective without further notice on March 30, 2000, unless comments are received which result in a contrary determination.

ADDRESSES: Darrell A. Johnson, Freedom of Information Act Officer, Office of Management and Budget, New Executive Office Building, Washington, DC 20503. Comments up to three pages in length may be submitted via facsimile to (202) 395-3952. Electronic mail comments may be submitted via Internet to djohnson@omb.eop.gov. Please include the full body of electronic mail comments in the text and not as an attachment. Please include the name, title, organization, postal address, and E-mail address in the text of the message.

FOR FURTHER INFORMATION CONTACT: Darrell A. Johnson, FOIA Officer, Office of Management and Budget, at (202) 395-5715.

SUPPLEMENTARY INFORMATION: In accordance with the Privacy Act of 1974, the Office of Management and Budget conducted a review of its Privacy Act systems of records and determined that eleven systems of records can be deleted from its inventory because the data is neither collected nor maintained by OMB. The systems of records to be deleted are: OMB/SPD/01, “Clearance Office Information System”; FAI-1, “Federal Procurement and Logistics Personnel Information System”; FAI-2, “Individual Credentialing Services Program”; OMB/LIBRY/01, “Library Circulation System”; OMB/BUDGO/01, “Payroll and Leave Records”; OMB/BUDGO/03, “Personnel Summary”; OMB/BUDGO/04, “Professional Staff Roster”; OMB/RECDS/01, “Researcher Request File”; OMB/ADSER/01, “Staff Directory Card”; OMB/BUDGO/02, “Staff Travel Records”; and OMB/CAVAD/01, “Veterans Education and Training Load Model.” In addition, three other systems of records in OMB's inventory are being revised to incorporate address and title changes as well as to update descriptions of the systems and other data. These three systems are OMB/LEGIS/01, “Private Relief Legislation”; OMB/PERSL/01, “Recruiting and Applicant Records”; and OMB/ADSER/02, “Staff Parking Application File”, and are published in their entirety. One of the revisions is the deletion from the routine use description of disclosures that are made internally within OMB. Those disclosures will continue to be made, but are authorized by 5 U.S.C. 552a(b)(1).

Robert L. Nabors II,
Executive Secretary and Assistant Director for Administration.

For the reasons discussed in the preamble, OMB is updating three systems of records which are being printed in their entirety as shown below.

OMB/LEGIS/01

System name:

Private Relief Legislation.

Security classification:

None.

System location:

Legislative Information Center, Office of Management and Budget, New Executive Office Building, 725 17th St., NW, Washington, DC 20503.

Categories of individuals covered by the system:

Individuals who are the subject of proposed or enacted private relief legislation.

Categories of records in the system:

The information contained in these records consists of only those private relief bills requiring Office of Management and Budget review as specified in OMB Circular No. A-19, Revised September, 1979. The information maintained may include copies of a draft bill proposed by an agency as defined in the Circular, copies of bills introduced in the Congress, and if applicable, Congressional committee reports, agency memorandums and letters, OMB memoranda and letters, and other documents as may be needed in connection with the legislative coordination and clearance process. Certain individual records may also contain correspondence from and to the individual about whom the information is maintained.

Authority for maintenance of the system:

Office of Management and Budget Circular No. A-19, Revised September, 1979.

Routine uses of records maintained in the system, including categories of users and the purposes of such uses:

Disclosure may be made to a congressional office from the record of an individual in response to an inquiry from the congressional office made at the request of that individual.

Policies and practices for storing, retrieving, accessing, retaining, and disposing of records in the system:

Storage:

The records are stored in an electronically powered rotary file.

Retrievability:

Information is retrieved by name of individual, bill number, or private law number.

Safeguards:

Access to the building is controlled and monitored by security personnel. Access to the records is limited to those whose official duties require access to the information.

Retention and disposal:

Permanent records are maintained on private relief bills introduced during the current and prior two sessions of Congress and then transferred to the National Archives.

System manager(s) and address:

Supervisory Legislative Research Assistant, Legislative Information Center, Office of Management and Budget, New Executive Office Building, 725 17th St, NW, Washington, DC 20503.

Notification procedure:

If you wish to determine whether a record exists regarding you in the systems of records, contact the Freedom of Information Act Officer, Office of Management and Budget, New Executive Office Building, 725 17th Street NW, Washington, DC 20503.

Record access procedures:

See Notification procedure.

Contesting record procedures:

See Notification procedure.

Record source categories:

See “Categories of records in the system.”

Systems exempted from certain provisions of the act:

Not applicable.

OMB/ADSER/02

System name:

Staff Parking Application File.

Security classification:

None.

System location:

Administration Office, Office of Management and Budget, New Executive Office Building, 725 17th Street NW, Washington, DC 20503.

Categories of individuals covered by the system:

OMB employees requesting a parking permit or joining a carpool.

Categories of records in the system:

The system contains completed OMB Form 73 submitted by OMB employees who desire a parking permit. The form contains the following information on person making the application: Name, office or division, room number, telephone extension, home address, home telephone number, zip code, and make of car. For each rider the following information is recorded, name, home address, and work location and office phone number.

Authority for maintenance of the system:

Federal Property Management Regulation (FPMR) 41 CFR 101-20.104 and Office of Management and Budget Office Memorandum No. 91-14.

Policies and practices for storing, retrieving, accessing, retaining, and disposing of records in the system:

Storage:

Forms are maintained in a file cabinet.

Retrievability:

Records are kept by type of parking permit issued and by name. Access is limited to the Associate/Assistant Director for Administration, staff of the Administrative Services section, staff who wish to join a carpool, and upon request, the individual to which the information pertains.

Safeguards:

Access to the building is controlled and monitored by security personnel. Access to the records is limited to those whose official duties require access to the information.

Retention and disposal:

Records are retained and disposed of in accordance with the National Archives and Records Administration records schedule.

System manager(s) and address:

Associate/Assistant Director for Administration, Office of Management and Budget, Old Executive Office Building, 17th and Pennsylvania Ave. NW, Washington, DC 20503.

Notification procedure:

If you wish to determine whether a record exists regarding you in the systems of records, contact the Freedom of Information Act Officer, Office of Management and Budget, New Executive Office Building, 725 17th Street NW, Washington, DC 20503.

Record access procedures:

See Notification procedure.

Contesting record procedures:

See Notification procedure.

Record source categories:

See “Categories of records in the system.”

Systems exempted from certain provisions of the act:

Not applicable.

OMB/PERSL/01

System name:

Recruiting Records.

Security classification:

None.

System location:

Administration Office, Office of Management and Budget, New Executive Office Building, 725 17th St. NW, Washington, DC 20503.

Categories of individuals covered by the system:

Persons identified through OMB's recruitment program have applied or who have been referred for employment consideration for a internship, summer employment or a permanent position.

Categories of records in the system:

These records contain information relating to the education and training; appraisal of potential; honors, awards, or fellowships; and home address of these persons and is obtained from resumes provided by the applicants.

Authority for maintenance of the system:

Title 5, U.S.C. Section 3109, 3301, 3302, 3304, 3309, 3318, 3319, and Executive Orders 10577 and 11103.

Routine uses of records maintained in the system,

Including categories of users and the purpose of such uses:

a. Office of Personnel Management (OPM) to the extent the information is relevant to OPM's decision on a OMB request.

b. A congressional office in response to an inquiry from the congressional office made at the applicant's request.

c. A requesting Federal agency, Commission or other public office if that applicant has indicated to OMB that he or she is available for referral to other agencies for consideration.

Policies and practices for storing, retrieving, accessing, retaining, and disposing of records in the system:

Storage:

Paper records and electronic media.

Retrievability:

Individual records are indexed by name, by school, by area of interest, and by the type of appointment the applicant is seeking.

Safeguards:

Access to and use of the system and its records is limited to selected OMB staff whose official duties require having access. Files are kept in the OMB Administration Office and in the EOP computer center. Both facilities are locked and alarmed. Only OMB staff involved in recruiting or hiring personnel have access to this data.

Retention and disposal:

Records are retained and disposed of in accordance with the National Archives and Records Administration records schedule.

System manager(s) and address:

Associate/Assistant Director for Administration, Office of Management and Budget, Old Executive Office Building, 17th and Pennsylvania Ave. NW, Washington, DC 20503.

Notification procedure:

If you wish to determine whether a record exists regarding you in the systems of records, contact the Freedom of Information Act Officer, Office of Management and Budget, New Executive Office Building, 725 17th Street NW, Washington, DC 20503.

Record access procedure:

See Notification procedure.

Contesting record procedures:

See Notification procedure.

Record source categories:

See “Categories of records in the system.”

Systems exempted from certain provisions of the act:

Not applicable.

[FR Doc. 00-7802 Filed 3-29-00; 8:45 am]

BILLING CODE 3110-01-U